DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before November 20, 2023.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on October 12, 2023.
Donald P. Burger,
Chief, General Approvals and Permits Branch.

Application No. | Applicant | Regulation(s) affected | Nature of the special permits thereof
Special Permits Data—Granted
11818-M | Lockheed Martin Corporation | 172.301(f), 172.101(j), 172.101(j)(1), 173.304a(a)(2) | To modify the special permit to authorize an additional hazardous material.
12783-M | Cool Renewal, LLC | 173.304a(a)(1), 173.306(a) | To modify the special permit to authorize the transportation in commerce of small units of certain compressed gas, intended for medical use as limited quantities.
14992-M | VIP Transport, Inc | 173.196(a), 173.196(b), 173.199, 178.609 | To modify the special permit to authorize smaller inner packagings.
16318-M | Technical Chemical Company | 173.304(d), 173.167(a), 173.302(a), 173.306(i) | To modify the special permit to authorize additional hazardous materials and transportation of the hazardous materials as limited quantities.
20681-M | Proserv UK Ltd | 172.301(c), 173.302(a)(1), 173.304(a) | To modify the special permit to authorize additional cylinder coatings.
20936-M | Co2 Exchange LLC | 171.2(k), 172.200, 172.300, 172.700(a), 172.400, 172.500 | To modify the special permit to authorize cylinders to be packaged within an outer fiberboard box with or without a dispensing machine.
20998-M | Daicel Safety Systems Americas, Inc | 173.301(a)(1), 173.302(a)(1), 178.65(c)(3) | To modify the special permit to remove the requirement that a flattening test be conducted, authorize alternative marking, and authorize a pressure relief device designed to an alternative standard.
21297-M | Luxfer Canada Limited | 173.301(i), 178.75 | To modify the special permit to authorize mounting of a cylinder within a structural frame during transportation.
21469-N | Romeo Systems, Inc | 172.101(j) | To authorize the transportation in commerce of lithium batteries exceeding 35 kg by cargo-only aircraft.
21580-N | Arkema Inc | 173.301, 173.302 | To authorize the transportation in commerce of Boron Trifluoride (BF3) in a non-DOT specification cylinder.
21584-N | National Air Cargo Group, Inc | 172.204(c)(3), 172.101(j), 173.27(b)(2), 173.27(b)(3), 175.30(a)(1) | To authorize the transportation in commerce by cargo-only aircraft of Class 1 explosives which are forbidden or exceed the quantities authorized in 172.101 Column 9B.
21599-N | Lanxess Corporation | 178.274(b)(1) | To authorize the manufacture, mark, sale, and use of non-specification “T20” UN portable tanks conforming to all requirements of a UN portable tank, except as specified herein.
21629-N | Space Bd Inc | 172.101(j), 173.185(a)(1), 173.185(e)(7) | To authorize the transportation in commerce of prototype and low production lithium ion batteries including those contained in or packed with equipment.
21631-N | Arkema Inc | 173.173(b)(1) | To authorize the one-way transportation in commerce of 532 non-DOT specification 1A1 metal drums containing resin solution.
21646-N | Delta Air Lines, Inc | 175.10, 175.75 | To authorize the transportation in commerce of certain Division 2.2 materials that have been loaded in an alternative manner.
Special Permits Data—Denied
9998-M | Accumulators, Inc | 173.302(a) | To modify the special permit to authorize additional accumulators.
21163-M | United Initiators, Inc | 178.345-10(b)(1) | To modify the special permit to authorize additional hazardous materials.
21232-N | Scandinavian Airlines System Denmark-Norway-Sweden | 175.75(c) | To authorize the transportation in commerce of aviation fuel contained in a fuel tank by passenger-carrying aircraft in quantities that exceed the limitation for materials loaded in an inaccessible manner.
21404-N | Adair Investments Inc | 173.219(c)(4), 173.21(f)(3)(i), 199.9(a)(1) | To authorize the transportation of lithium batteries, brake cleaners, starting fluid, and carborator cleaners.
21524-N | Tea Technologies Inc | 180.205(c), 180.205(f), 180.205(g) | To authorize the transportation in commerce of composite tubes that have been requalified using modal acoustic emission (MAE) in lieu of volumetric and internal visual examination.
21573-N | Sharpsville Container Corporation | 178.274(j)(3), 178.274(j)(4) | To authorize the transportation in commerce of portable tanks containing certain hazardous materials where the tank has not been leakage tested in accordance with 49 CFR 178.274(j).
21587-N | Textron Aviation Defense LLC | 173.220(f) | To authorize the transportation in commerce of an aircraft fuselage and canopy.
Special Permits Data—Withdrawn
14152-M | Entegris, Inc | 173.27(f) | To modify the special permit to authorize an additional hazardous material.
21579-N | KULR Technology Corporation | 173.6(a)(1), 173.6(d) | To authorize the manufacture, mark, sale, and use of packaging for the purpose of transporting lithium batteries as Materials of Trade in excess of the package weight limitations and vehicle aggregate weight limitations.

[FR Doc. 2023-23155 Filed 10-19-23; 8:45 am]

BILLING CODE P